DEPARTMENT OF ENERGY

Federal Energy Regulatory Commission

Combined Notice of Filings #2

Take notice that the Commission received the following electric rate filings:

Docket Numbers: ER18-1244-000.

Applicants: Emera Maine.

Description: § 205(d) Rate Filing: MPD OATT Revisions to be effective 6/1/2018.

Filed Date: 3/30/18.

Accession Number: 20180330-5120.

Comments Due: 5 p.m. ET 4/20/18.

Docket Numbers: ER18-1245-000.

Applicants: PJM Interconnection, L.L.C.

Description: § 205(d) Rate Filing: Revisions to OATT and OA RE: FTR Market Surplus Allocation to be effective 6/1/2018.

Filed Date: 3/30/18.

Accession Number: 20180330-5148.

Comments Due: 5 p.m. ET 4/20/18.

Docket Numbers: ER18-1246-000.

Applicants: Pacific Gas and Electric Company.

Description: § 205(d) Rate Filing: E&P Agreement for Capetown Wind Farm to be effective 4/2/2018.

Filed Date: 3/30/18.

Accession Number: 20180330-5151.

Comments Due: 5 p.m. ET 4/20/18.

Docket Numbers: ER18-1247-000.

Applicants: Entergy Louisiana, LLC, Entergy Mississippi, Inc., Entergy New Orleans, LLC, Entergy Texas, Inc., Entergy Arkansas, Inc.

Description: § 205(d) Rate Filing: EAI et al Unit Power Sales and Designated Power Purchase Tariff Amendment to be effective 6/1/2018.

Filed Date: 3/30/18.

Accession Number: 20180330-5152.

Comments Due: 5 p.m. ET 4/20/18.

Docket Numbers: ER18-1248-000.

Applicants: Southern California Edison Company

Description: § 205(d) Rate Filing: SCE Revised WDAT—Energy Storage to be effective 5/30/2018.

Filed Date: 3/30/18.

Accession Number: 20180330-5154.

Comments Due: 5 p.m. ET 4/20/18.

Docket Numbers: ER18-1249-000.

Applicants: Puget Sound Energy, Inc.

Description: § 205(d) Rate Filing: Depreciation Rate Amendment to be effective 12/19/2017.

Filed Date: 3/30/18.

Accession Number: 20180330-5155.

Comments Due: 5 p.m. ET 4/20/18.

Docket Numbers: ER18-1250-000.

Applicants: Alliant Energy Corporate Services, Inc.

Description: § 205(d) Rate Filing: AECS Updated Rate Schedule 2 to be effective 6/1/2018.

Filed Date: 3/30/18.

Accession Number: 20180330-5157.

Comments Due: 5 p.m. ET 4/20/18.

Docket Numbers: ER18-1251-000.

Applicants: Kansas City Power & Light Company, KCP&L Greater Missouri Operations Company.

Description: Expedited Petition of Kansas City Power & Light Company, et al. for Waiver of Tariff Provision.

Filed Date: 3/30/18.

Accession Number: 20180330-5159.

Comments Due: 5 p.m. ET 4/9/18.

Docket Numbers: ER18-1252-000.

Applicants: Pacific Gas and Electric Company.

Description: § 205(d) Rate Filing: Sierra Pacific Power Company Replacement IA and TFA (SA 367) to be effective 4/1/2018.

Filed Date: 3/30/18.

Accession Number: 20180330-5162.

Comments Due: 5 p.m. ET 4/20/18.

Docket Numbers: ER18-1253-000.

Applicants: Arizona Public Service Company.

Description: § 205(d) Rate Filing: Service Agreement No. 219 Amendment 3—Saddlebrooke Ranch Interconnection to be effective 3/1/2018.

Filed Date: 3/30/18.

Accession Number: 20180330-5202.

Comments Due: 5 p.m. ET 4/20/18.

Docket Numbers: ER18-1254-000.

Applicants: PacifiCorp.

Description: 205(d) Rate Filing: RS 560 City of Hurricane Requirements Contract Rev 1 to be effective 6/1/2018.

Filed Date: 3/30/18.

Accession Number: 20180330-5203.

Comments Due: 5 p.m. ET 4/20/18.

Docket Numbers: ER18-1255-000.

Applicants: Southwestern Electric Power Company.

Description: § 205(d) Rate Filing: Bentonville PSA to be effective 1/1/2018.

Filed Date: 3/30/18.

Accession Number: 20180330-5212.

Comments Due: 5 p.m. ET 4/20/18.

Docket Numbers: ER18-1256-000.

Applicants: Public Service Company of New Mexico.

Description: Formula Rate Post-employment Benefits Other than Pensions filing of Public Service Company of New Mexico.

Filed Date: 3/30/18.

Accession Number: 20180330-5213.

Comments Due: 5 p.m. ET 4/20/18.

Docket Numbers: ER18-1257-000.

Applicants: Pacific Gas and Electric Company.

Description: Notice of Termination of Pacific Gas and Electric Company Interconnection Agreement Rate Schedule No. 241.

Filed Date: 3/30/18.

Accession Number: 20180330-5220.

Comments Due: 5 p.m. ET 4/20/18.

Docket Numbers: ER18-1258-000.

Applicants: Entergy Louisiana, LLC.

Description: § 205(d) Rate Filing: ELL-SRMPA 14th Extension of Interim Agreement to be effective 4/1/2018.

Filed Date: 3/30/18.

Accession Number: 20180330-5221.

Comments Due: 5 p.m. ET 4/20/18.

Docket Numbers: ER18-1259-000.

Applicants: Vermont Transco, LLC.

Description: Request to Recover Costs of Vermont Transco, LLC.

Filed Date: 3/30/18.

Accession Number: 20180330-5222.

Comments Due: 5 p.m. ET 4/20/18.

Docket Numbers: ER18-1260-000.

Applicants: Midcontinent Independent System Operator, Inc., Entergy Services, Inc.

Description: § 205(d) Rate Filing: 2018-03-30 Entergy Att O Revisions Re Tax Rate Change to be effective 6/1/2018.

Filed Date: 3/30/18.

Accession Number: 20180330-5223.

Comments Due: 5 p.m. ET 4/20/18.

Docket Numbers: ER18-1261-000.

Applicants: New York Independent System Operator, Inc.

Description: § 205(d) Rate Filing: 205 filing re: Price Correction Deadlines to be effective 5/30/2018.

Filed Date: 3/30/18.

Accession Number: 20180330-5257.

Comments Due: 5 p.m. ET 4/20/18.

Take notice that the Commission received the following foreign utility company status filings:

Docket Numbers: FC18-4-000.

Applicants: I Squared Capital.

Description: Self-Certification of FC of I Squared Capital.

Filed Date: 3/30/18.

Accession Number: 20180330-5027.

Comments Due: 5 p.m. ET 4/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2018.
Nathaniel J. Davis, Sr.,
Deputy Secretary.

[FR Doc. 2018-06958 Filed 4-4-18; 8:45 am]

BILLING CODE 6717-01-P